DEPARTMENT OF COMMERCE

National Oceanic and Atmospheric Administration

RIN 0648-XG480-X

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two-day meeting of its Standing, Reef Fish and Socioeconomic Scientific and Statistical Committees (SSC).

DATES: The meeting will convene on Tuesday, October 2, 2018, from 8:30 a.m. to 5:15 p.m. and Wednesday, October 3, 2018, from 8:30 a.m. to 12:15 p.m. EDT.

ADDRESSES: The meeting will be held at the Gulf Council's new office, located at 4107 W Spruce Street, Suite 200, Tampa, FL 33607.

Council address: Gulf of Mexico Fishery Management Council, 4107 W Spruce Street, Suite 200, Tampa, FL 33607; telephone: (813) 348-1630.

FOR FURTHER INFORMATION CONTACT: Dr. John Froeschke, Deputy Director, Gulf of Mexico Fishery Management Council; john.froeschke@gulfcouncil.org; telephone: (813) 348-1630.

SUPPLEMENTARY INFORMATION:

Tuesday, October 2, 2018: 8:30 a.m.-5:15 p.m.

I. Introductions and Adoption of Agenda

II. Election of Chair and Vice-Chair

III. Approval of August 2, 2018 SSC Minutes

IV. Selection of SSC representative at October 22-25, 2018 Council meeting in Mobile, AL

V. Discussion of “Best Scientific Information Available”

a. Presentation—NMFS

b. Presentation—SSC

VI. Update on Red Grouper Interim Analysis

VII. Briefing on Marine Recreation Information Program (MRIP) Transition to Improved Survey Designs

VIII. Presentation: The Great Red Snapper Count

IX. Summary of the SEDAR Steering Committee Meeting

X. Discussion on “right-sizing” Stock Assessments

XI. Review Gulf SEDAR Stock Assessment Schedule 2021

Wednesday, October 3, 2018: 8:30 a.m.-12:15 p.m.

XII. Gulf of Mexico Allocation Review Triggers

XIII. Specify the Terms of Reference (TORs) for the 2020 Operational Assessments for Gag and Greater Amberjack

XIV. Discussion on Gulf Council Fishery Monitoring and Research Priorities for 2020-25

XV. Discussion of “Something's Fishy” Red Grouper Questionnaire

XVI. Other Business

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: September 11, 2018.
Tracey L. Thompson,
Acting Deputy Director, Office of Sustainable Fisheries, National Marine Fisheries Service.

[FR Doc. 2018-20026 Filed 9-13-18; 8:45 am]

BILLING CODE 3510-22-P